DEPARTMENT OF STATE

[Public Notice: 7343; OMB 1405-0180]

60-Day Notice of Proposed Information Collection: DS-7652, U.S. National Commission for UNESCO Laura W. Bush Traveling Fellowship

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: U.S. National Commission for UNESCO Laura W. Bush Traveling Fellowship.

• OMB Control Number: 1405-0180.

• Type of Request: Extension of a currently approved collection.

• Originating Office: Bureau of International Organization Affairs, Office of UNESCO Affairs, Executive Secretariat U.S. National Commission for UNESCO (IO/UNESCO).

• Form Number: DS-7646.

• Respondents: U.S. college and university students applying for a Fellowship.

• Estimated Number of Respondents: 100.

• Estimated Number of Responses: 100.

• Average Hours Per Response: 10.

• Total Estimated Burden: 1,000 hours.

• Frequency: On occasion.

• Obligation to Respond: Required to Obtain or Retain a Benefit.

DATES: The Department will accept comments from the public up to 60 days from February 23, 2011.

ADDRESSES: Direct comments and questions to Eric Woodard, Executive Director to the U.S. National Commission for UNESCO at the Department of State, who may be reached at 202-663-0024. You may submit comments by any of the following methods:

• E-mail: WoodardEW@state.gov.

• Mail (paper, disk, or CD-ROM submissions): Eric Woodard, Office of UNESCO Affairs, Department of State, 2121 Virginia Avenue, NW., #6200, Washington, DC 20037.

• Fax: 202-663-0035.

FOR FURTHER INFORMATION CONTACT: You may obtain copies of the proposed information, collection, details regarding applying for this privately funded fellowship, and supporting documents from Eric Woodard, Executive Director, U.S. National Commission for UNESCO, who may be reached at 202-663-0024 or at WoodardEW@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Fellowship applicants, U.S. citizen students at U.S. colleges and universities, will submit descriptions of self-designed proposals for brief travel abroad to conduct work that is consistent with UNESCO's substantive mandate to contribute to peace and security by promoting collaboration among nations through education, the sciences, culture, and communications in order to further universal respect for justice, for the rule of law and for the human rights and fundamental freedoms which are affirmed for the peoples of the world, without distinction of race, sex, language or religion, by the Charter of the United Nations. The fellowship is funded through private donations. The information will be reviewed for the purpose of identifying the most meritorious proposals, as measured against the published evaluation criteria.

Methodology

The U.S. Department of State, Bureau of International Organization Affairs, Office of UNESCO Affairs, Executive Secretariat U.S. National Commission for UNESCO (IO/UNESCO) will collect this information via electronic submission.

Dated: February 14, 2011.
Eric Woodard,
Executive Director, U.S. National Commission for UNESCO, Bureau of International Organization Affairs, U.S. Department of State.

[FR Doc. 2011-4054 Filed 2-22-11; 8:45 am]

BILLING CODE 4710-19-P